DEPARTMENT OF COMMERCE

National Oceanic and Atmospheric Administration

RIN 0648-XF665

Notice of Intent To Prepare an Environmental Assessment on the Issuance of Incidental Take Authorizations in Cook Inlet, Alaska

AGENCY: National Marine Fisheries Service (NMFS), National Oceanic and Atmospheric Administration (NOAA), Commerce.

ACTION: Notice.

SUMMARY: The National Marine Fisheries Service announces its intent to prepare an Environmental Assessment (EA) to analyze the environmental impacts of issuing annual incidental harassment authorizations (IHAs) pursuant to the Marine Mammal Protection Act (MMPA) for the taking of marine mammals incidental to anthropogenic activities in the waters of Cook Inlet, Alaska, for the 2018 season; and its intent to continue an annual cycle for issuing MMPA IHAs in Cook Inlet such that companies planning to submit IHA applications for work to be conducted in Cook Inlet in 2018 do so by no later than October 1, 2017. We refer prospective applicants to our 2016 Technical Guidance for Assessing the Effects of Anthropogenic Sound on Marine Mammal Hearing (http://www.nmfs.noaa.gov/pr/acoustics/guidelines.htm).

DATES: Applicants should submit applications to the Permits and Conservation Division in the Office of Protected Resources by October 1, 2017.

ADDRESSES: Applications should be addressed to Jolie Harrison, Chief, Permits and Conservation Division, Office of Protected Resources, National Marine Fisheries Service, 1315 East-West Highway, Silver Spring, MD 20910. The mailbox address for providing applications is itp.youngkin@noaa.gov. Applications sent via email, including all attachments, must not exceed a 25-megabyte file size. NMFS is not responsible for applications sent to addresses other than those provided here.

Instructions: All applications received are a part of the public record and will generally be posted to http://www.nmfs.noaa.gov/pr/permits/incidental.htm. All personal identifying information (for example, name, address, etc.) voluntarily submitted by the commenter may be publicly accessible. Do not submit confidential business information or otherwise sensitive or protected information.

FOR FURTHER INFORMATION CONTACT: Sara Young, Office of Protected Resources, NMFS, (301) 427-8484.

SUPPLEMENTARY INFORMATION:

Background

Sections 101 (a)(5)(A) and (D) of the MMPA (16 U.S.C. 1361 et seq.) direct the Secretary of Commerce to allow, upon request, the incidental, but not intentional taking of small numbers of marine mammals by U.S. citizens who engage in a specified activity (other than commercial fishing) within a specified geographical region if certain findings are made and either regulations are issued or, if the taking is limited to harassment for a period of one year or less, a notice of proposed authorization is provided to the public for review. The term “take” under the MMPA means “to harass, hunt, capture or kill, or attempt to harass, hunt, capture, or kill.” Except with respect to certain activities not pertinent here, the MMPA defines “harassment” as “any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].”

Authorization for incidental takings shall be granted if NMFS finds that the taking will have a negligible impact on the species or stock(s), will not have an unmitigable adverse impact on the availability of the species or stock(s) for subsistence uses (where relevant), and if the permissible methods of taking and requirements pertaining to the mitigation, monitoring, and reporting of such takings are set forth. NMFS has defined “negligible impact” in 50 CFR 216.103 as “an impact resulting from the specified activity that cannot be reasonably expected to, and is not reasonably likely to, adversely affect the species or stock through effects on annual rates of recruitment or survival.”

Concern for Cook Inlet Beluga Whales

Cook Inlet is a semi-enclosed tidal estuary located in southcentral Alaska and home to the Cook Inlet beluga whale, a small resident population that was designated as depleted under the MMPA and listed as an endangered species under the Endangered Species Act (ESA) in 2008. The stock has not recovered, despite implementation of subsistence hunting regulations in 1999, and cessation of hunting in 2007. In May 2015, NMFS unveiled its “Species in the Spotlight: Survive to Thrive” initiative. This initiative includes targeted efforts vital for stabilizing eight species—including the Cook Inlet beluga whale—identified among the most at risk for extinction. The approach involves intensive human efforts to stabilize these species, with the goal that they will become candidates for recovery. NMFS issued a Federal Register Notice in January 2017 announcing availability of its ESA Recovery Plan for the Cook Inlet Beluga Whale (82 FR 1325; January 5, 2017).

Due to the reduced number of ITA requests in the region, combined with current funding constraints, NMFS' intention of preparing an Environmental Impact Statement (EIS) for oil and gas activities in Cook Inlet has been postponed (79 FR 61616; October 14, 2014). Should the number of ITA requests, or anticipated requests, noticeably increase, NMFS will re-evaluate whether preparation of an EIS is necessary.

MMPA Authorization Cycle (Application Deadlines)

To support NMFS' efforts to prepare an EA that covers multiple MMPA incidental harassment authorizations for the 2018 open water season, NMFS is continuing an application cycle for incidental harassment authorizations that include Cook Inlet beluga whales. NMFS requests prospective MMPA incidental harassment authorization applicants for the 2018 open water season to submit their applications by October 1, 2017 (unless the activity is scheduled to occur before May, in which case they should be submitted earlier). Receipt of those MMPA applications by October 1, 2017, will aid NMFS in the development of an EA to support timely and well-informed MMPA incidental harassment authorizations.

Dated: August 30, 2017.
Donna S. Wieting,
Director, Office of Protected Resources, National Marine Fisheries Service.

[FR Doc. 2017-18752 Filed 9-1-17; 8:45 am]

BILLING CODE 3510-22-P